DEPARTMENT OF DEFENSE

Defense Acquisition Regulation System

48 CFR Parts 204, 215, and 252

[Docket DARS-2019-0001]

Defense Federal Acquisition Regulation Supplement: Technical Amendments

AGENCY: Defense Acquisition Regulations System, Department of Defense (DoD).

ACTION: Final rule.

SUMMARY: DoD is making needed technical amendments to update the Defense Federal Acquisition Regulation Supplement (DFARS).

DATES: Effective December 31, 2019.

FOR FURTHER INFORMATION CONTACT: Ms. Jennifer L. Hawes, Defense Acquisition Regulations System, OUSD (A&S) DPC (DARS), Room 3B941, 3060 Defense Pentagon, Washington, DC 20301-3060. Telephone 571-372-6115; facsimile 571-372-6094.

SUPPLEMENTARY INFORMATION: This final rule amends the DFARS as follows:

1. DFARS sections 204.7001 and 215.404-1 are amended to add a notice to contracting officers to see DFARS Procedures, Guidance, and Information (PGI) 204.7001 and PGI 215.404-1(h) for guidance regarding entering procurement acquisition lead time milestones into the Procurement Integrated Enterprise Environment module and for reviewing and justifying pass-through contracts, respectively.

2. Internet hyperlinks are updated in DFARS clauses 252.204-7012, Safeguarding Covered Defense Information and Cyber Incident Reporting; 252.211-7006, Passive Radio Frequency Identification; and 252.235-7011, Final Scientific or Technical Report.

List of Subjects in 48 CFR Parts 204, 215, and 252

Government procurement.

Jennifer Lee Hawes,
Regulatory Control Officer, Defense Acquisition Regulations System.

Therefore, 48 CFR parts 204, 215, and 252 are amended as follows:

1. The authority citation for 48 CFR parts 204, 215, and 252 continues to read as follows:

Authority: 41 U.S.C. 1303 and 48 CFR chapter 1.

PART 204—ADMINISTRATIVE AND INFORMATION MATTERS

2. Add new subpart 204.70, consisting of section 204.7001, to read as follows:

Subpart 204.70—Procurement Acquisition Lead Time
Sec.
204.7001 Procedures.

Subpart 204.70—Procurement Acquisition Lead Time

204.7001 Procedures.

Follow the procedures at PGI 204.7001 for reporting procurement acquisition lead time milestones in the Procurement Integrated Enterprise Environment module.

PART 215—CONTRACTING BY NEGOTIATION

3. Amend section 215.404-1 by adding paragraph (h) to read as follows:

215.404-1 Proposal analysis techniques.

* * * * *

(h) Review and justification of pass-through contracts. Follow the procedures at PGI 215.404-1(h)(2) when considering alternative approaches or making the determination that the contracting approach selected is in the best interest of the Government, as required by FAR 15.404-1(h)(2).

PART 252—SOLICITATION PROVISIONS AND CONTRACT CLAUSES

252.204-7012 [Amended]

4. Amend section 252.204-7012 by—

a. Removing the clause date “(OCT 2016)” and adding “(DEC 2019)” in its place; and

b. In paragraphs (c)(1)(ii) and (c)(2), removing “http://dibnet.dod.mil” and adding “https://dibnet.dod.mil” in both places; and

c. In paragraph (c)(3), removing “http://iase.disa.mil/pki/eca/Pages/index.aspx” and adding “https://public.cyber.mil/eca/” in its place.

* * * * *

252.211-7006 [Amended]

5. Amend section 252.211-7006 by—

a. Removing the clause date “(MAR 2016)” and adding “(DEC 2019)” in its place; and

b. In paragraph (d), removing “http://www.epcglobalinc.org/standards/” and adding “http://www.gs1.org/epc-rfid” in its place.

* * * * *

252.235-7011 [Amended]

6. Amend section 252.235-7011 by—

a. Removing the clause date “(JAN 2015)” and adding “(DEC 2019)” in its place; and

b. In paragraphs ((a), (b), and (c), removing “http://www.dtic.mil/dtic/submit/” and adding “https://discover.dtic.mil/submit-documents/” in each place; and in paragraph (c) also removing “TR@DTIC.SMIL.MIL” and adding “dtic.belvoir.da.mbx.tr@mail.smil.mil” in its place.

[FR Doc. 2019-27829 Filed 12-30-19; 8:45 am]

BILLING CODE 5001-06-P